DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, Division of Injury Compensation Programs, 5600 Fishers Lane, Room 14W-18, Rockville, Maryland 20857; 1-800-338-2382, or visit our website at: https://www.hrsa.gov/vaccine-compensation.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2025, through June 30, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition;” and

2. Any allegation in a petition that the petitioner either:

a. “[S]ustained, or had significantly aggravated, any illness, disability, injury, or condition not set forth in the Vaccine Injury Table but which was caused by” one of the vaccines referred to in the Table; or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 14W-18, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Randall Rhodes, Woodridge, Illinois, Court of Federal Claims No: 25-0930V

2. Jeffrey Daniels, Smyrna, Tennessee, Court of Federal Claims No: 25-0934V

3. Brian Cote, West Springfield, Massachusetts, Court of Federal Claims No: 25-0935V

4. Nadia Sabr, Linwood, New Jersey, Court of Federal Claims No: 25-0937V

5. Chana Sutofsky, Dresher, Pennsylvania, Court of Federal Claims No: 25-0939V

6. Michael Thompson, Oshkosh, Wisconsin, Court of Federal Claims No: 25-0940V

7. Pawel Tlomak, Dresher, Pennsylvania, Court of Federal Claims No: 25-0942V

8. Janice Williams, Sarasota, Florida, Court of Federal Claims No: 25-0943V

9. Philip Gibson, Salem, Oregon, Court of Federal Claims No: 25-0944V

10. Linda Skitzki, Fresno, California, Court of Federal Claims No: 25-0945V

11. Jamie Perman, Vancouver, Washington, Court of Federal Claims No: 25-0946V

12. Matthew J. Windsor, Pittsburgh, Pennsylvania, Court of Federal Claims No: 25-0950V

13. Bridgette Wasinger, Los Angeles, California, Court of Federal Claims No: 25-0953V

14. Richard E. Gordon, Johnston, Rhode Island, Court of Federal Claims No: 25-0957V

15. Theodora Scarborough, Rockledge, Florida, Court of Federal Claims No: 25-0958V

16. Andrew Joseph Santos, Bellflower, California, Court of Federal Claims No: 25-0959V

17. Margaret Sferra, New York, New York, Court of Federal Claims No: 25-0961V

18. Brenda Allen, Dresher, Pennsylvania, Court of Federal Claims No: 25-0962V

19. Hugo Albuja, Woodridge, Illinois, Court of Federal Claims No: 25-0969V

20. Frank Tellez, Dresher, Pennsylvania, Court of Federal Claims No: 25-0971V

21. Donna Frederick, Woodridge, Illinois, Court of Federal Claims No: 25-0974V

22. LaShannon Snowden-Lee, Woodridge, Illinois, Court of Federal Claims No: 25-0975V

23. Juanita Chapple, Milwaukee, Wisconsin, Court of Federal Claims No: 25-0976V

24. Leticia Nava, Woodridge, Illinois, Court of Federal Claims No: 25-0977V

25. Denise Falwell, Siloam Springs, Arkansas, Court of Federal Claims No: 25-0979V

26. Alan Douglas, Woodridge, Illinois, Court of Federal Claims No: 25-0982V

27. Kirsten Wilson-Russell, Dresher, Pennsylvania, Court of Federal Claims No: 25-0983V

28. Ashley Ott on behalf of B.O., Englewood, New Jersey, Court of Federal Claims No: 25-0984V

29. Arielle Rodriguez and Jamiyl Lovett on behalf of J.L., Deceased, Hillsborough, New Jersey, Court of Federal Claims No: 25-0985V

30. Mark Schaus on behalf of C.S., Woodridge, Illinois, Court of Federal Claims No: 25-0986V

31. Gary Wilcher, Beverly Hills, California, Court of Federal Claims No: 25-0992V

32. Gary Hetrick, Dresher, Pennsylvania, Court of Federal Claims No: 25-0993V

33. Gwenith Culclager on behalf of the estate of Robyn Broughton, Deceased, Sarasota, Florida, Court of Federal Claims No: 25-0994V

34. Steven Vance, Black River Falls, Wisconsin, Court of Federal Claims No: 25-0995V

35. Michael Damian DuBos, Houston, Texas, Court of Federal Claims No: 25-0996V

36. Harold Bare III, Jacksonville, Florida, Court of Federal Claims No: 25-0998V

37. Rick Gurholt, Oshkosh, Wisconsin, Court of Federal Claims No: 25-1000V

38. Julio Rendon, Dresher, Pennsylvania, Court of Federal Claims No: 25-1003V

39. Ami Mechling, Orlando, Florida, Court of Federal Claims No: 25-1006V

40. Erica Contreras, New York, New York, Court of Federal Claims No: 25-1009V

41. Robert Hearn, Dresher, Pennsylvania, Court of Federal Claims No: 25-1010V

42. Cindy Miller, Woodridge, Illinois, Court of Federal Claims No: 25-1011V

43. Marsha Sommer Gholson, Philadelphia, Pennsylvania, Court of Federal Claims No: 25-1012V

44. Charita Alexander, Woodridge, Illinois, Court of Federal Claims No: 25-1013V

45. Peter Kuo, Woodridge, Illinois, Court of Federal Claims No: 25-1015V

46. Alexis Olejnicak, St. Paul, Minnesota, Court of Federal Claims No: 25-1018V

47. Carolyn Broman, Chicago, Illinois, Court of Federal Claims No: 25-1025V

48. Michael Meyers, Dover, Denver, Court of Federal Claims No: 25-1026V

49. Kathleen Brauen, Niagara Falls, New York, Court of Federal Claims No: 25-1027V

50. Bethel Boeder, Escondido, California, Court of Federal Claims No: 25-1029V

51. Oralyn Clark, Watkinsville, Georgia, Court of Federal Claims No: 25-1030V

52. Michael Chaplin, Woodridge, Illinois, Court of Federal Claims No: 25-1038V

53. Heidi Pawelka, Summit, Wisconsin, Court of Federal Claims No: 25-1039V

54. Diane Kelly, Woodridge, Illinois, Court of Federal Claims No: 25-1040V

55. Teri McDaniel, Mobile, Alabama, Court of Federal Claims No: 25-1041V

56. Paula Krentsa, Sarasota, Florida, Court of Federal Claims No: 25-1042V

57. Cassaundra Lantzy, Homosassa, Florida, Court of Federal Claims No: 25-1045V

58. Heather Fenn, Niantic, Connecticut, Court of Federal Claims No: 25-1054V

59. Roxanna Brozek, Los Angeles, California, Court of Federal Claims No: 25-1055V

60. Christopher Mero, Dresher, Pennsylvania, Court of Federal Claims No: 25-1057V

61. Sai Pradnesh Kodali, Reston, Virginia, Court of Federal Claims No: 25-1059V

62. Naomi Tirado, Pawtucket, Rhode Island, Court of Federal Claims No: 25-1060V

63. Jacqueline Rosa, Haverhill, Massachusetts, Court of Federal Claims No: 25-1061V

64. Demetrius Teal, Santa Clarita, California, Court of Federal Claims No: 25-1062V

65. Chris Swenson, Negaunee, Michigan, Court of Federal Claims No: 25-1063V

66. Mariah Ryan on behalf of M.S., Deceased, Cheyenne, Wyoming, Court of Federal Claims No: 25-1064V

67. Heather Rish, Greenville, South Carolina, Court of Federal Claims No: 25-1065V

68. Sheldon Bernstein, Palo Alto, California, Court of Federal Claims No: 25-1066V

69. Helen Pepin, Boston, Massachusetts, Court of Federal Claims No: 25-1068V

70. Charles Crincoli, Glen Rock, New Jersey, Court of Federal Claims No: 25-1069V

71. Carrie A. Bush, Woodridge, Illinois, Court of Federal Claims No: 25-1071V

72. Ebony Green, Binghamton, New York, Court of Federal Claims No: 25-1072V

73. Delila DeJesus on behalf of M.M., New York, New York, Court of Federal Claims No: 25-1075V

74. Jillian Behler, New York, New York, Court of Federal Claims No: 25-1082V

75. Lakima Jackson, Plaquemine, Louisiana, Court of Federal Claims No: 25-1084V

76. Cheryl Farrell, Dresher, Pennsylvania, Court of Federal Claims No: 25-1085V

77. Cathy Watson, Woodridge, Illinois, Court of Federal Claims No: 25-1086V

78. Peter Wakker, Woodridge, Illinois, Court of Federal Claims No: 25-1087V

79. Shauna McAllister, Exton, Pennsylvania, Court of Federal Claims No: 25-1088V

[FR Doc. 2025-17213 Filed 9-5-25; 8:45 am]

BILLING CODE 4165-15-P